ELECTION ASSISTANCE COMMISSION

Agency Information Collection Activities: EAC Federal Financial Report

AGENCY: U.S. Election Assistance Commission (EAC).

ACTION: Request for public comment on standardized EAC Federal Financial Report (EAC-FFR) to be used for both interim and final financial reporting for all EAC grants.

SUMMARY: As part of its continuing effort to reduce paperwork burdens, and as required by the Paperwork Reduction Act of 1995 (PRA), the U.S. Election Assistance Commission (EAC) gives notice that it is requesting from the Office of Management and Budget (OMB) approval for the information collection EAC Federal Financial Report (EAC-FFR).

DATES: Comments must be received by 5 p.m. Eastern on Tuesday, March 8, 2022.

ADDRESSES: To view the proposed EAC-FFR format, see: https://www.eac.gov/payments-and-grants/reporting.

For information on the EAC-FFR, contact Kinza Ghaznavi, Office of Grants, Election Assistance Commission, Grants@eac.gov.

Written comments and recommendations for the proposed information collection should be sent directly to Grants@eac.gov.

All requests and submissions should be identified by the title of the information collection.

SUPPLEMENTARY INFORMATION: The EAC Office of Grants Management (EAC/OGM) is responsible for distributing, monitoring, and providing technical assistance to states and grantees on the use of federal funds. EAC/OGM also reports on how the funds are spent, negotiates indirect cost rates with grantees, and resolves audit findings on the use of HAVA funds.

The EAC-FFR is employed for all financial reports for grants issued under HAVA authority. This revised format builds upon that report for the various grant awards given by EAC. A “For Comment” version of the draft format for use in submission of the FFR is posted on the EAC website at: https://www.eac.gov/payments-and-grants/reporting. The FFR will directly benefit award recipients by making it easier for them to administer federal grant and cooperative agreement programs through standardization of the types of information required in financial reporting—thereby reducing their administrative effort and costs.

After obtaining and considering public comment, the EAC will prepare the format for final clearance. Comments are invited on (a) ways to enhance the quality, utility, and clarity of the information collected from respondents, including through the use of automated collection techniques or other forms of information technology; and (b) ways to minimize the burden of the collection of information on respondents, including through the use of automated collection techniques or other forms of information technology.

Description: The EAC proposes to collect financial activity data for HAVA. EAC will use this data to ensure grantees are proceeding in a satisfactory manner in meeting the approved goals and purpose of the project.

The requirement for grantees to report on performance is OMB grants policy. Specific citations are contained in Code of Federal Regulations TITLE 2, PART 200—UNIFORM ADMINISTRATIVE REQUIREMENTS, COST PRINCIPLES, AND AUDIT REQUIREMENTS FOR FEDERAL AWARDS.

Respondents: All EAC grantees and state governments.

Annual Burden Estimates
EAC grant | Instrument | Total number of respondents | Total number of responses per year | Average burden hours per response | Annual burden hours
251 | EAC-FFR | 35 | 2 | .5 | 35
101 | EAC-FFR | 20 | 2 | .5 | 20
Election Security | EAC-FFR | 56 | 2 | .5 | 56
CARES | EAC-FFR | 15 | 2 | .5 | 15
Total |  |  |  |  | 126

The estimated cost of the annualized cost of this burden is: $2,863.98, which is calculated by taking the annualized burden (126 hours) and multiplying by an hourly rate of $22.73 (GS-8/Step 5 hourly basic rate).

Kevin Rayburn,
General Counsel, U.S. Election Assistance Commission.

[FR Doc. 2021-27861 Filed 1-5-22; 8:45 am]

BILLING CODE P